DEPARTMENT OF EDUCATION

Notice of Proposed Extension of Project Period and Waiver for the Spinal Cord Injury Model Systems Centers (SCIMS)

AGENCY: National Institute on Disability and Rehabilitation Research (NIDRR), Office of Special Education and Rehabilitative Services, Department of Education.

SUMMARY: The Secretary proposes to waive the requirements in Education Department General Administrative Regulations (EDGAR), in 34 CFR 75.250 and 75.261(c)(2), respectively, that generally prohibit project periods exceeding five years and project period extensions involving the obligation of additional Federal funds. This extension of project period and waiver would enable the current SCIMS (a total of 16), which provide assistance to establish innovative projects for the delivery, demonstration, and evaluation of comprehensive medical, vocational, and other rehabilitation services to meet the wide range of needs of individuals with Spinal Cord Injury (SCI), to receive additional Federal funding from September 1, 2005, until December 1, 2006, a period exceeding the original project period of five years.

DATES: We must receive your comments on or before May 25, 2005.

ADDRESSES: Address all comments about this proposed extension and waiver to Donna Nangle, U.S. Department of Education, 400 Maryland Avenue, SW., room 6030, Potomac Center Plaza, Washington, DC 20204-2700. If you prefer to send your comments through the Internet, use the following address: donna.nangle@ed.gov.

FOR FURTHER INFORMATION CONTACT: Donna Nangle. Telephone: (202) 245-7462.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed extension of project period and waiver.

During and after the comment period, you may inspect all public comments about this proposed extension of project period and waiver in room 6030, Potomac Center Plaza, 550 12th Street, SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this proposed extension of project period and waiver. If you want to schedule an appointment for this type of aid, please contact the person listed under FOR FURTHER INFORMATION CONTACT.

NIDRR supports the goals of the President's New Freedom Initiative (NFI) and the National Institute on Disability and Rehabilitation Research Long Range Plan (Plan), which are designed to help improve rehabilitation services and outcomes for individuals with disabilities.

Note: The NFI can be accessed on the Internet at the following site: http://www.whitehouse.gov/infocus/newfreedom/.

The Plan can be accessed on the Internet at the following site: http://www.ed.gov/rschstat/research/pubs/index.html.

Background

In accordance with the goals of the NFI and the Plan, and as authorized under section 204(a)(1) of the Rehabilitation Act of 1973, as amended, through NIDRR, the Department provides funding for projects to improve services and outcomes for individuals with disabilities. The Conference Report accompanying the 2005 Appropriations Act noted that NIDRR received additional funding for the SCIMS program and stated that the conferees intended that the additional funds should be used to support investments that could facilitate multi-center research on therapies, interventions, and the use of technology. NIDRR is conducting background work to inform the competition and plans to defer new awards, formerly scheduled for 2005, until 2006 in order to use the background information to guide development of competition priorities, allow applicants sufficient time to prepare proposals, and place all SCIMS grants on the same funding schedule.

The grants for 16 SCIMS at University of Alabama/Birmingham, Santa Clara Valley Medical Center (SCVMC), Los Amigos Research and Education Institute, Inc. (LAREI), Craig Hospital, University of Miami, Shepherd Center, Inc., Boston University Medical Center Hospital, University of Michigan, University of Missouri/Columbia, Kessler Medical Rehabilitation Research and Education Corporation (KMRREC), Mount Sinai School of Medicine, Thomas Jefferson University Hospital, University of Pittsburgh, The Institute for Rehabilitation and Research (TIRR), Virginia Commonwealth University, and the University of Washington are scheduled to expire on various dates between August 31, 2005, and November 30, 2005. It would be contrary to the public interest, however, to have any lapses in these SCI research activities before the new awards are made in FY 2006.

To avoid any lapse in research and related activities, the Secretary is proposing to fund each of these projects for an additional 12 months. Accordingly, the Secretary proposes to waive the requirements in 34 CFR 75.250 and 75.261(c)(2), which prohibit project periods exceeding five years and extensions of project periods that involve the obligation of additional Federal funds.

Regulatory Flexibility Act Certification

The Secretary certifies that the proposed extension of the project period and waiver would not have a significant economic impact on a substantial number of small entities. The only entities that would be affected are the 16 Spinal Cord Injury Model Systems Centers.

Paperwork Reduction Act of 1995

This proposed extension of project period and waiver does not contain any information collection requirements.

Intergovernmental Review

This program is not subject to the requirements of Executive Order 12372 and the regulations in 34 CFR part 79.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 20, 2005.
John H. Hager,
Assistant Secretary for Special Education and Rehabilitative Services.

[FR Doc. 05-8229 Filed 4-22-05; 8:45 am]

BILLING CODE 4000-01-P